OFFICE OF PERSONNEL MANAGEMENT

Excepted Service; May 2022

AGENCY: Office of Personnel Management (OPM).

ACTION: Notice.

SUMMARY: This notice identifies Schedule A, B, and C appointing authorities applicable to a single agency that were established or revoked from May 1, 2022, to May 31, 2022.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during May 2022.

Schedule B

No Schedule B Authorities to report during May 2022.

Schedule C

The following Schedule C appointing authorities were approved during May 2022.

Agency name | Organization name | Position title | Authorization No. | Effective date
DEPARTMENT OF AGRICULTURE | Office of Rural Development | State Director—Arkansas | DA220122 | 05/09/2022
| Farm Service Agency | State Executive Director—Texas | DA220123 | 05/09/2022
|  | State Executive Director—Connecticut | DA220127 | 05/16/2022
| Risk Management Agency | Chief of Staff | DA220128 | 05/20/2022
DEPARTMENT OF COMMERCE | Bureau of Industry and Security | Senior Advisor for Export Controls | DC220106 | 05/06/2022
| Office of Executive Secretariat | Deputy Director | DC220108 | 05/06/2022
| National Telecommunications and Information Administration | Director of Public Affairs | DC220110 | 05/06/2022
| Office of Business Liaison | Deputy Director, Office of Public Engagement | DC220116 | 05/20/2022
COMMODITY FUTURES TRADING COMMISSION | Office of the Chairperson | Senior Advisor | CT220002 | 05/06/2022
DEPARTMENT OF DEFENSE | Office of the Assistant to the Secretary of Defense (Public Affairs) | Research Assistant | DD220133 | 05/06/2022
| Washington Headquarters Services | Defense Fellow | DD220134 | 05/10/2022
| Office of the Assistant Secretary of Defense (Strategy, Plans and Capabilities) | Special Assistant | DD220138 | 05/16/2022
DEPARTMENT OF EDUCATION | Office of Communications and Outreach | Traveling Digital Director | DB220051 | 05/04/2022
DEPARTMENT OF ENERGY | Office of Manufacturing and Energy Supply Chains | Special Assistant | DE220078 | 05/05/2022
| Office of the Under Secretary of Energy | Chief of Staff | DE220079 | 05/11/2022
| Office of Public Affairs | Writer-Editor Speechwriter | DE220080 | 05/11/2022
ENVIRONMENTAL PROTECTION AGENCY | Office of Public Engagement and Environmental Education | Senior Advisor for Environmental Education | EP220044 | 05/04/2022
| Office of the Administrator | Deputy White House Liaison | EP220047 | 05/04/2022
|  | White House Liaison | EP220049 | 05/16/2022
| Office of the Associate Administrator for Congressional and Intergovernmental Relations | Special Advisor for Intergovernmental Affairs | EP220046 | 05/03/2022
|  | Special Assistant | EP220048 | 05/06/2022
DEPARTMENT OF HEALTH AND HUMAN SERVICES | Office of Intergovernmental and External Affairs | Regional Director, Kansas City, MO Region VII | DH220083 | 05/03/2022
| Office of the Deputy Secretary | Senior Advisor | DH220087 | 05/12/2022
| Office of the Secretary | Scheduler | DH220092 | 05/23/2022
| Office of the Assistant Secretary for Legislation | Senior Advisor, Oversight | DH220094 | 05/31/2022
DEPARTMENT OF HOMELAND SECURITY | Office of Legislative Affairs | Director of Legislative Affairs | DM220156 | 05/19/2022
|  | Advisor for Strategic Engagement | DM220190 | 05/31/2022
| Office of Public Affairs | Researcher | DM220160 | 05/02/2022
| Office of Strategy, Policy, and Plans | Policy Advisor | DM220179 | 05/19/2022
| Office of the Secretary | Special Assistant, White House Liaison | DM220189 | 05/16/2022
|  | Special Assistant | DM220150 | 05/20/2022
| Transportation Security Administration | Speechwriter | DM220182 | 05/19/2022
| Office of United States Citizenship and Immigration Services | Senior Advisor | DM220184 | 05/31/2022
| Office of United States Customs and Border Protection | Special Assistant | DM220128 | 05/05/2022
DEPARTMENT OF JUSTICE | Office of Antitrust Division | Chief of Staff and Senior Counsel | DJ220077 | 05/16/2022
| Office of Legislative Affairs | Senior Counsel | DJ220083 | 05/20/2022
DEPARTMENT OF LABOR | Office of Workers Compensation Programs | Policy Advisor | DL220047 | 05/09/2022
| Office of the Secretary | Senior Advisor for Private Sector Engagement (2) | DL220048 DL220049 | 05/18/2022 05/18/2022
| Office of the Assistant Secretary for Policy | Deputy Director of the Good Jobs Initiative and Senior Policy Advisor | DL220050 | 05/18/2022
NATIONAL AERONAUTICS AND SPACE ADMINISTRATION | Office of the Administrator | Executive Assistant and Advisor | NN220027 | 05/26/2022
OFFICE OF PERSONNEL MANAGEMENT | Office of Communications | Press Secretary | PM220037 | 05/13/2022
SECURITIES AND EXCHANGE COMMISSION | Office of the Chairman | Program Specialist | SE220010 | 05/20/2022
SMALL BUSINESS ADMINISTRATION | Office of Communications and Public Liaison | Director of Digital Communications | SB220028 | 05/05/2022
| Office of the Administrator | Special Assistant | SB220030 | 05/17/2022
SOCIAL SECURITY ADMINISTRATION | Office of Communications | Senior Advisor | SZ220008 | 05/05/2022
DEPARTMENT OF STATE | Bureau of Legislative Affairs | Senior Advisor (Nominations) | DS220037 | 05/06/2022
| Office of the Secretary | Staff Assistant | DS220045 | 05/20/2022
| Bureau of Population, Refugees and Migration | Senior Advisor | DS220046 | 05/20/2022
DEPARTMENT OF TRANSPORTATION | Office of the Assistant Secretary for Transportation Policy | Special Assistant for Public Engagement | DT220083 | 05/19/2022
| Federal Transit Administration | Senior Advisor | DT220082 | 05/19/2022
| Office of Public Affairs | Director of Public Affairs | DT220081 | 05/16/2022
| Office of the Under Secretary of Transportation for Policy | Supply Chain Advisor | DT220079 | 05/16/2022
| Office of the Secretary | Director of Scheduling | DT220080 | 05/16/2022
DEPARTMENT OF VETERANS AFFAIRS | Office of the Assistant Secretary for Congressional and Legislative Affairs | Advisor for Congressional and Legislative Affairs | DV220033 | 05/19/2022
| Veterans Experience Office | Strategic Advisor to Chief Veterans Experience Officer | DV220041 | 05/19/2022
|  | Advisor to Chief Veterans Experience Officer | DV220042 | 05/19/2022

The following Schedule C appointing authorities were revoked during May 2022.

Agency name | Organization name | Position title | Request No. | Vacate date
DEPARTMENT OF COMMERCE | Office of Advance, Scheduling and Protocol | Deputy Director of Advance | DC210146 | 05/07/2022
| Office of Executive Secretariat | Special Assistant | DC210167 | 05/07/2022
| Office of Legislative and Intergovernmental Affairs | Special Assistant | DC210155 | 05/04/2022
| Office of Public Affairs | Deputy Press Secretary | DC210164 | 05/06/2022
DEPARTMENT OF EDUCATION | Office of Career Technical and Adult Education | Chief of Staff | DB210069 | 05/21/2022
DEPARTMENT OF ENERGY | Office of the Secretary | Deputy White House Liaison | DE210115 | 05/07/2022
DEPARTMENT OF HEALTH AND HUMAN SERVICES | Office of the Assistant Secretary for Public Affairs | Press Assistant | DH210095 | 05/07/2022
| Office of the Secretary | Senior Advisor | DH220008 | 05/21/2022
DEPARTMENT OF HOUSING AND URBAN DEVELOPMENT | Office of Policy Development and Research | Special Assistant for Special Projects | DU210044 | 05/07/2022
DEPARTMENT OF STATE | Bureau of Global Public Affairs | Spokesperson for USAID | DS210248 | 05/07/2022
DEPARTMENT OF THE AIR FORCE | Office of the Secretary | Special Assistant | DF210008 | 05/22/2022
DEPARTMENT OF TRANSPORTATION | Federal Transit Administration | Senior Advisor | DT210101 | 05/22/2022
OFFICE OF THE SECRETARY OF DEFENSE | Office of the Assistant Secretary of Defense (Legislative Affairs) | Special Assistant | DD220102 | 05/07/2022
| Office of the Secretary of Defense | Special Assistant | DD210178 | 05/14/2022
SMALL BUSINESS ADMINISTRATION | Office of Capital Access | Special Advisor | SB210052 | 05/13/2022
| Office of the Administrator | Director of Scheduling | SB210029 | 05/21/2022

Authority: 5 U.S.C. 3301 and 3302; E.O. 10577, 3 CFR, 1954-1958 Comp., p. 218.

Office of Personnel Management.
Stephen Hickman,
Federal Register Liaison.

[FR Doc. 2022-22591 Filed 10-17-22; 8:45 am]

BILLING CODE 6325-39-P